DEPARTMENT OF TRANSPORTATION

Federal Aviation Administration

14 CFR Part 71

[Docket No. FAA-2020-0384; Airspace Docket No. 19-AAL-15]

RIN 2120-AA66

Proposed Amendment of Class D and Class E Airspace; Bethel, AK

AGENCY: Federal Aviation Administration (FAA), DOT.

ACTION: Final rule.

SUMMARY: This action modifies the Class D and Class E surface area at Bethel Airport, Bethel AK, by redefining the Hangar Lake exclusion area and eliminating the use of the VORTAC in the descriptions. This action removes Class E airspace as an extension to the Class D and Class E surface area and modifies the Class E airspace extending upward from 700 feet above the surface at the Airport. After a biennial review of the airspace, the FAA found it necessary to amend the existing airspace for the safety and management of Instrument Flight Rules (IFR) operations at this airport. This action also updates the geographical coordinates and replaces the outdated term Airport/Facility Directory with the term Chart Supplement.

DATES: Effective 0901 UTC, December 31, 2020. The Director of the Federal Register approves this incorporation by reference action under Title 1 Code of Federal Regulations part 51, subject to the annual revision of FAA Order 7400.11 and publication of conforming amendments.

ADDRESSES: FAA Order 7400.11E, Airspace Designations and Reporting Points, and subsequent amendments can be viewed online at https://www.faa.gov/air_traffic/publications/. For further information, you can contact the Airspace Policy Group, Federal Aviation Administration, 800 Independence Avenue SW, Washington, DC 20591; telephone: (202) 267-8783. The Order is also available for inspection at the National Archives and Records Administration (NARA).

For information on the availability of FAA Order 7400.11E at NARA, email fedreg.legal@nara.gov or go to https://www.archives.gov/federal-register/cfr/ibr-locations.html.

FOR FURTHER INFORMATION CONTACT: Richard Roberts, Federal Aviation Administration, Western Service Center, Operations Support Group, 2200 S 216th Street, Des Moines, WA 98198; telephone (206) 231-2245.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the Agency's authority. This rulemaking is promulgated under the authority described in Subtitle VII, Part A, Subpart I, Section 40103. Under that section, the FAA is charged with prescribing regulations to assign the use of airspace necessary to ensure the safety of aircraft and the efficient use of airspace. This regulation is within the scope of that authority as it modifies the Class D, Class E surface airspace and Class E airspace extending upward from 700 feet AGL at Bethel Airport, Bethel AK in support of IFR operations.

History

The FAA published a notice of proposed rulemaking in the Federal Register (85 FR 35231; June 9, 2020) for Docket No. FAA-2020-0384 to modify the Class D airspace, the Class E surface airspace, and the Class E airspace extending upward from 700 feet above the earth at Bethel Airport, Bethel AK in support of IFR operations. Interested parties were invited to participate in this rulemaking effort by submitting written comments on the proposal to the FAA. No comments were received.

Class D and Class E airspace designations are published in paragraph 5000, 6002, 6004, 6005 of FAA Order 7400.11E, dated July 21, 2020, and effective September 15, 2020, which is incorporated by reference in 14 CFR 71.1. The Class D and Class E airspace designations listed in this document will be published subsequently in the Order.

Availability and Summary of Documents for Incorporation by Reference

This document amends FAA Order 7400.11E, Airspace Designations and Reporting Points, dated July 21, 2020, and effective September 15, 2020. FAA Order 7400.11E is publicly available as listed in the ADDRESSES section of this document. FAA Order 7400.11E lists Class A, B, C, D, and E airspace areas, air traffic service routes, and reporting points.

The Rule

The FAA is amending 14 CFR part 71 by modifying the description of the Class D and Class E surface areas, removing the Class E as an extension to the Class D and Class E and modifying the Class E airspace extending upward from 700 feet AGL at Bethel Airport, Bethel AK.

The Class D and Class E surface areas are modified so that the Hangar Lake exclusion area is described as that area within .7 miles of the Hangar Lake ARP and eliminate the use of the VORTAC in the definition. This will ensure that a change in the status of the nav-aid, in the future, would have no effect on the description and not require additional rulemaking.

The FAA is eliminating the Class E airspace extension to the Class D and Class E surface area, as it is no longer required for approaches.

In addition, the FAA is modifying the Class E airspace extending upward from 700 feet above the surface to within 6.6 miles of the Airport (reduced from 16.8 miles) and removing the procedure turn maneuvering area from the Bethel Airport to 22.8 miles north, as it is no longer required for the approaches. The use of the term Airport Facility/Directory is replaced with Chart Supplement and the geographical coordinates are updated to match the FAA database.

FAA Order 7400.11, Airspace Designations and Reporting Points, is published yearly and effective on September 15.

Regulatory Notices and Analyses

The FAA has determined that this regulation only involves an established body of technical regulations for which frequent and routine amendments are necessary to keep them operationally current, is non-controversial and unlikely to result in adverse or negative comments. It, therefore: (1) Is not a “significant regulatory action” under Executive Order (E.O.) 12866; (2) is not a “significant rule” under DOT Regulatory Policies and Procedures (44 FR 11034; February 26, 1979); and (3) does not warrant preparation of a Regulatory Evaluation as the anticipated impact is so minimal. Since this is a routine matter that only affects air traffic procedures and air navigation, it is certified that this rule, when promulgated, will not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11E, Airspace Designations and Reporting Points, dated July 21, 2020, and effective September 15, 2020, is amended as follows:

Paragraph 5000 Class D Airspace.

* * * * *

AAL AK D Bethel, AK [Amended]

Bethel Airport, AK

(Lat. 60°46′43″ N, long. 161°50′14″ W)

Hangar Lake

(Lat. 60°48′17″ N, long. 161°43′15″ W)

That airspace extending upward from the surface to and including 2,600 feet MSL within a 4.1-mile radius of the Bethel Airport, AK, excluding that portion below 1,100 feet MSL within .7-mile radius of Hangar Lake SPB. This Class D airspace area is effective during the specific dates and times established in advance by a Notice to Airmen. The effective date and time will thereafter be continuously published in the Chart Supplement.

Paragraph 6002 Class E Airspace Designated as Surface Areas.

* * * * *

AAL AK E2 Bethel, AK [Amended]

Bethel Airport, AK

(Lat. 60°46′43″ N, long. 161°50′14″ W)

Hangar Lake

(Lat. 60°48′17″ N, long. 161°43′15″ W)

That airspace extending upward from the surface within a 4.1-mile radius of the Bethel Airport, AK, excluding that portion below 1,100 feet MSL within .7-mile radius of Hangar Lake SPB. This Class E airspace area is effective during the specific dates and times established in advance by a Notice to Airmen. The effective date and time will thereafter be continuously published in the Chart Supplement.

Paragraph 6004 Class E Airspace Areas Designated as an Extension to a Class D or Class E Surface Area.

* * * * *

AAL AK E4 Bethel, AK [Removed]

Paragraph 6005 Class E Airspace Areas Extending Upward From 700 Feet or More Above the Surface of the Earth.

* * * * *

AAL AK E5 Bethel, AK [Amended]

Bethel Airport, AK

(Lat. 60°46′43″ N, long. 161°50′14″ W)

That airspace extending upward from 700 feet above the surface within a 6.6-mile radius of the Bethel Airport, AK, and that airspace 8 miles east and 4 miles west of the 211° radial from the airport extending from the 6.6-mile radius to 22 miles south of the Airport.

Issued in Seattle, Washington, on September 8, 2020.
Byron Chew,
Acting Group Manager, Operations Support Group, Western Service Center.

[FR Doc. 2020-20231 Filed 9-14-20; 8:45 am]

BILLING CODE 4910-13-P